DEPARTMENT OF COMMERCE

National Oceanic and Atmospheric Administration

[I.D. 072204G]

Endangered Species; File No. 1420

AGENCY: National Marine Fisheries Service (NMFS), National Oceanic and Atmospheric Administration (NOAA), Commerce.

ACTION: Issuance of permit.

SUMMARY: Notice is hereby given that Dr. Douglas Peterson, Warnell School of Forest Resources Fisheries Division, University of Georgia, Athens, GA 30602 has been issued a permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Jennifer Jefferies or Dr. Tammy Adams, (301)713-2289.

SUPPLEMENTARY INFORMATION: On March 10, 2003, notice was published in the Federal Register (68 FR 11533) that a request for a scientific research permit to take shortnose sturgeon had been submitted by Dr. Douglas Peterson. The requested permit has been issued under the authority of the Endangered Species Act of 1973, as amended (ESA; 16 U.S.C. 1531 et seq.) and the regulations governing the taking, importing, and exporting of endangered and threatened species (50 CFR parts 222-226).

In order to provide critical data on stock status, life history, and survival rates as well as to identify specific habitat requirements of the various life stages of the shortnose sturgeon in the Altamaha River, Georgia, Dr. Peterson will be authorized to capture up to 200 adult fish annually from via gill and trammel netting. Fish will be measured, weighed, PIT and Carlin tagged, tissue and pectoral fin ray sampled, and subsequently released. Additionally, up to 30 of the fish captured over the course of the permit will also receive an internal radio-sonic transmitter and be tracked. Dr. Peterson will also be authorized to deploy artificial substrate samplers from February to mid-March to collect up to 100 shortnose sturgeon eggs annually.

Issuance of this permit, as required by the ESA, was based on a finding that such permit (1) was applied for in good faith, (2) will not operate to the disadvantage of the endangered species which is the subject of this permit, and (3) is consistent with the purposes and policies set forth in section 2 of the ESA.

Dated: September 2, 2004.
Stephen L. Leathery,
Chief, Permits, Conservation and Education Division, Office of Protected Resources, National Marine Fisheries Service.

[FR Doc. 04-20810 Filed 9-15-04; 8:45 am]

BILLING CODE 3510-22-S